DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending September 30, 2019. For purposes of this listing, long-term residents, as defined in section 877(e)(2), are treated as if they were citizens of the United States who lost citizenship.

Last name | First name | Middle name/initials
AHTI | RITVA | I.
AKAI | FUMIKO |
AKAI | NAOTAKE |
ASAHINA | HIROE |
BAARS | HEIKE |
BAJAJ | KAMLESH | KUMAR.
BAUDREXL | RAINER | M.
BAUER | HEINRICH |
BAY | ELIZABETH |
BELL | LINDA | S.
BIERBAUM | MAIKE | ROSA.
BOS | JUDITH | S.
BRADYZUCCHELLI (SP?) | VIVIANA | P.
BRYCE | JASON | E.
BRYCE | PATRICIA |
CAI | GUANGSHUN |
CASTEJON | MARIO | F.
CHANDRASEKARAN | SHOBHA |
CHANG | MU-LI |
CHIMKO | TRUDY | N.
CHOE | ARAM |
CLAPHAM | PAUL | RICHARD.
CLAPHAM | VALERIE | ANN.
CLARKE | DAVID | M.
CLARKE | LORRAINE | M.
CLARKE-LING | PHILIPPA | R.
COOPER | ANDREA | MAY.
CORSINI | BENEDETTA |
CULVERWELL | ELIZABETH |
CULVERWELL | JAMES | N.
DATLA | GOPI | K.
DELANSAY | PHILIPPE |
DEVINO | WENDY |
DOSHI | PANKAJ | BHUPATRAI.
DOSHI | SANGITA | PANKAJ.
DROLET | JEAN-JACQUES | P.
DYMA | CAROLYN | E.
FISHER | CAROL |
FISHER | RONALD |
FROMSON | KAREN |
FROMSON | LEE | S.
GAMBS | DANIEL |
GARCIA | ZENAIDA | R.
GOPALAKRISHNA | VIDYA | B.
GREENE | CHARLES | J.
GREGORY | CHRISTINE |
GREGORY | DAVID | A.
GUNTURI | PRASANNA |
GUNTURI | SIVARAMA |
HAGGAI | OREN |
HAINER | KIRSTIN | L.
HANKS | BRIAN |
HANSEN | JUDITH |
HANSEN | MICHAEL |
HARGREAVES | ANDREW |
HARGREAVES | PAULINE | E.
HARRISON | RICHARD | C.
HEDBERG | LARS | JOHAN.
HEPPNER | HENNING |
HEWSON | WILLIAM |
HINDERBERGER | GABRIELE | C.
HVATUM | EVAN | A.
HWANG | EU JIN | B.
IMAI | TAKUMI |
INOUE | KUMIKO |
JACKSON | SUSAN | J.
JANZEN | FRANK | H.
JANZEN | MARIE |
JIN | YILUN |
JOHNSTON (SP?) | ROBERT | W.
JOHNSTONE | SHEILA | C.
JOUNG | SUMI |
JUHL | NIAMH |
KANEKO | AYAKA |
KANOST | DAWN |
KATO | KENJI |
KATO | YUKARI |
KAUFMAN | DEAN | V.
KAWASHIMA | AYA |
KIM | EUNHA |
KIM | JUNGHWA |
KNIGHT | ANJA | E.
KOBAYASHI | MASAFUMI |
KOBAYASHI | NATSUKO |
KOHAMA | KEISUKE |
KOHAMA | NOBUKO |
KOO | PILJU |
KRUGER | JACO |
LANDRE-SMITH | CAROLINE | C.
LAVY | HADAS |
LAVY | HANAN |
LAWRENCE | DANNY |
LEE | LI-CHEN |
LIAO | KEN-CHUNG |
LINNEGAR | MYRENE | LILIAN.
LUCAS | CLIVE | A.
LUCAS | SALLY | A.
LUNDERSTEDT | AVRIL |
LUNDERSTEDT | DAVID | B.
LUROSS | JEFFREY | A.
LUU | TRANG |
MANSSON | BEATRICE |
MANSSON | FABIAN |
MANSSON | MAYA |
MANSSON | NIKKI |
MCCAIN | SHARON | K.
MCKILLOP | BARBARA |
MEHTA | JAGRUTI | P.
MELKA | ALFRED | G.
MORA | FREDERIC |
MORIN | ODETTE | L.
MORISAKI | RYUSEI |
MOTOYOSHI | KEIKO |
MOTOYOSHI | KOJI |
MUTEKI | KOJI |
NAKAE | ERI |
NARCE | MELITA |
NARITA-PANTUSO | AKIKO |
OKAMOTO | HISAE |
OKAMOTO | KOJI |
OMAR | NAZISH | ZAFA.
OTSUKA | FUMIHIKO |
OTT | JENNA | K.
OTZ | INES |
OTZ | MARTIN | H.
PANDO | ROBERT | M.
PARTON | SAMANTHA | E.
PICKRAHN | STEPHEN |
POND | ALEXANDRA |
RAJAN | MRIDULA |
RAMUS | SUSAN | J.
RASMUSSEN | MICHAEL |
RIVAS | ORLANDO | J.
ROTH | NADINE | D.
RUSTAT | OLIVIER |
SA | WENJUAN |
SAKAKIBARA | KAZUHIRO |
SAN | BRIGID |
SCHAAF | CHRISTIAN |
SCHAAF | KATHRIN |
SHEPHERD | KEIKO |
SHIMONO | YOSHIKO |
SHIN | DONGIN |
SHINDO | MASAO |
SHIRAI | CHISEKO |
SHU | TAO-YI |
SIERSBAEK | RIKKE |
SMITH | GRAHAM | F.
SNOOK | EDWARD | C.
STAMOS | TOMEKO |
STOCK | CLAUDE |
STOKES | BARBARA | A.
STRUNK | DOROTHEA | GISELA.
TAGG | HEATHER | S.
TAGG | ROGER | J.
TAKAHASHI | KAZUKO |
TAKAYAMA | YURIKO |
TEDJA | ANDRIANA |
THURSTON | KATIE | J.L.
TRAMUTTOLA | MARIA |
TREMEL | VERENA | M.
TSUCHIDA | YOSHIKO |
TZAVIDAS | STAVROS |
VIETTI | YURIKO | OSONO.
VON NIESSEN-SILVA | LIESELOTTE |
WANG | JUNHONG |
WATANABE | NOZOMI |
WATANABE | RYUJI |
WATHEN | MELITA | H.
WEST | MATTHEW |
WHITELAW | PHILLIPA | F.
WILLIS | CARMEL | A.
WILSON | ELIZABETH | D.
WILSON | JANE | L.
WILSON | MICHAEL | G.
WONG | MICHAEL | S.
WOZNIAK | GRAZYNA | BARBARA.
WOZNIAK | WLADYSLAW |
WRIGHT | LINDA |
YAGIL | YORAM |
YAMAMOTO | MASAHIRO |
ZENG | QING |
ZHOU | XUEMEI |

Dated: October 30, 2019.
Diane Costello,
Manager Classification Team 82413, Examinations Operations—Philadelphia Compliance Services.

[FR Doc. 2019-24474 Filed 11-8-19; 8:45 am]

BILLING CODE 4830-01-P